DEPARTMENT OF THE INTERIOR

Bureau of Land Management

[19X.LLID930000.L11700000.DF0000.LXSGPL000000.241A.4500132602]

Notice of Availability of the Draft Programmatic Environmental Impact Statement for Fuels Reduction and Rangeland Restoration in the Great Basin; California, Idaho, Nevada, Oregon, Utah, and Washington

AGENCY: Bureau of Land Management, Interior.

ACTION: Notice of availability.

SUMMARY: In accordance with the National Environmental Policy Act of 1969, as amended, the Bureau of Land Management (BLM) has prepared a Draft Programmatic Environmental Impact Statement (EIS) for Fuels Reduction and Rangeland Restoration in the Great Basin and by this notice is announcing for the opening of the comment period. The BLM will hold public meetings throughout the project area to share information with the public and answer questions.

DATES: To ensure comments will be considered, the BLM must receive written comments on the Draft Programmatic EIS for Fuels Reduction and Rangeland Restoration in the Great Basin within 60 days following the date the Environmental Protection Agency publishes its Notice of Availability in the Federal Register. The BLM will announce future meetings or hearings and any other public involvement activities at least 15 days in advance through public notices, media releases, and/or mailings and will ensure that the last public meeting is held at least 15 days before the public comment period ends.

ADDRESSES: You may submit comments related to the Draft Programmatic EIS for Fuels Reduction and Rangeland Restoration in the Great Basin by any of the following methods:

• Website: https://go.usa.gov/xdfgV.

• Email: BLM_PEIS_Comments@blm.gov.

• Fax: 208-373-3805.

• Mail: Bureau of Land Management, Idaho State Office, ATTN: Fuels Reduction Draft PEIS, 1387 South Vinnell Way, Boise, ID 83709.

Copies of the Draft Programmatic EIS for Fuels Reduction and Rangeland Restoration in the Great Basin are available for public inspection during regular business hours at the BLM Idaho State Office, 1387 South Vinnell Way, Boise, ID 83709. Interested persons may also review the Draft Programmatic EIS online at: https://go.usa.gov/xdfgV. Additional copies are available upon request at the BLM California, Nevada, Oregon/Washington, and Utah State Offices.

FOR FURTHER INFORMATION CONTACT: Ammon Wilhelm, telephone 208-373-3824; address BLM Idaho State Office, 1387 South Vinnell Way, Boise, ID 83709; email awilhelm@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The sagebrush communities in the Great Basin are home to over 350 species of plants and wildlife and are a vital part of Western working landscapes. Wildfire and cheatgrass invasions are threatening these vegetative communities; approximately 45% of the historical range of sagebrush has been lost. Between 2009 and 2018, over 13.5 million acres burned on BLM land within the project area. Many sagebrush communities, both burned and unburned, are being overtaken by invasive annual grasses and encroaching pinyon-juniper. Fuels reduction and rangeland restoration treatments can reduce fire severity, which increases the vegetative communities' resistance to invasive annual grasses and improves their ability to recover after wildfire.

The Project Area covers approximately 223 million acres, including portions of California, Idaho, Nevada, Oregon, Utah, and Washington. Restoration projects would be implemented within an analysis area covering approximately 38.5 million acres of sagebrush communities managed by the BLM within the project area boundary. The analysis area is defined by the current and historical presence of sagebrush on BLM-administered lands.

The purpose of future treatments is to enhance the long-term function, viability, resistance, and resilience of vegetative communities and to protect, conserve, and restore sagebrush communities within the project area. Functioning and viable sagebrush communities provide multiple-use opportunities for all user groups as well as habitat for sagebrush-dependent species.

Intact sagebrush communities are disappearing within the Great Basin due to increased wildfires, the spread of invasive annual grasses, and the encroachment of pinyon-juniper. Restoration treatments such as fuels reduction and revegetation are needed to increase intact sagebrush communities and improve their ability to resist annual grass invasion and recover from disturbance such as wildfire.

The preferred alternative (Alternative B) analyzes a full suite of manual, chemical and mechanical treatments, including prescribed fire, seeding, and targeted grazing, to restore degraded vegetative communities within the 38.5 million-acre sagebrush analysis area.

Please note that public comments and information submitted including names, street addresses, and email addresses of persons who submit comments will be available for public review and disclosure at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10.

John F. Ruhs,
Idaho State Director.

[FR Doc. 2020-06890 Filed 4-2-20; 8:45 am]

BILLING CODE 4310-GG-P